DEPARTMENT OF THE INTERIOR

Fish and Wildlife Service

[Docket No. FWS-HQ-IA-2018-0084; FXIA16710900000-178-FF09A30000]

Foreign Endangered Species; Receipt of Permit Applications

AGENCY: Fish and Wildlife Service, Interior.

ACTION: Notice of receipt of permit applications.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for activities involving endangered species.

DATES: We must receive comments by December 7, 2018.

ADDRESSES: Obtaining Documents: The applications, application supporting materials, and any comments and other materials that we receive will be available for public inspection at http://www.regulations.gov in Docket No. FWS-HQ-IA-2018-0084.

Submitting Comments: When submitting comments, please specify the name of the applicant and the permit number at the beginning of your comment. You may submit comments by one of the following methods:

• Internet: http://www.regulations.gov. Search for and submit comments on Docket No. FWS-HQ-IA-2018-0084.

• U.S. Mail or Hand-Delivery: Public Comments Processing, Attn: Docket No. FWS-HQ-IA-2018-0084; U.S. Fish and Wildlife Service Headquarters, MS: BPHC; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments on http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(a)(1)(A) of the Endangered Species Act of 1973, as amended (ESA; 16 U.S.C. 1531 et seq.), we invite public comments on permit applications before final action is taken. With some exceptions, the ESA prohibits activities with listed species unless Federal authorization is issued that allows such activities. Permits issued under section 10 of the ESA allow activities for scientific purposes or to enhance the propagation or survival of the affected species. Regulations regarding permit issuance under the ESA are in title 50 of the Code of Federal Regulations in part 17. ESA permits cover a wide range of activities pertaining to foreign listed species, including import, export, and activities in the United States.

III. Permit Applications

We invite comments on the following applications.

Applicant: Safari Game Search Foundation, Winston, OR; Permit No. 79703C

The applicant requests a permit to import two captive-born cheetahs (Acinonyx jubatus) from Parc Safari in Quebec, Canada, to enhance the propagation or survival of the species. This notification is for a single import.

Applicant: Zoological Society of San Diego, San Diego, CA; Permit No. 86442C

The applicant requests a permit to authorize the import of wild live specimens, viable and non-viable eggs, biological samples, and salvaged materials of California condors (Gymnogyps californianus) originating in Mexico, as well as the re-import of captive-bred/captive-hatched live specimens, viable and non-viable eggs, biological samples, and salvaged materials of California condors originating in the United States, to enhance the survival of the species through completion of identified tasks and objectives mandated under the U.S. Fish and Wildlife Service California Condor Recovery Plan. This notification covers activities to be conducted by the applicant over a 5-year period.

Applicant: Memphis Zoo, Memphis, TN; Permit No. 66689C

The applicant requests a permit to import captive-bred, live, dusky gopher frogs (Rana capito sevosa) to enhance the survival of the species through completion of identified tasks and objectives mandated under the U.S. Fish and Wildlife Service Dusky Gopher Frog Recovery Plan. This notification covers activities to be conducted by the applicant over a 5-year period.

IV. Next Steps

If we issue a permit to any of the applicants listed in this notice, we will publish a notice in the Federal Register. You may locate the notice announcing the permit issuance by searching http://www.regulations.gov for the permit number listed above in this document. For example, to find information about the potential issuance of Permit No. 79703C, you would go to http://www.regulations.gov and search for “79703C”.

V. Authority

We issue this notice under the authority of the Endangered Species Act of 1973, as amended (16 U.S.C. 1531 et seq.), and its implementing regulations.

Brenda Tapia,
Program Analyst/Data Administrator, Branch of Permits, Division of Management Authority.

[FR Doc. 2018-24280 Filed 11-6-18; 8:45 am]

BILLING CODE 4333-15-P